DEPARTMENT OF TRANSPORTATION

Surface Transportation Board

[STB Finance Docket No. 33990]

C & C Railroad, Inc.—Operation Exemption—Centerpoint Properties, L.L.C.

C & C Railroad, Inc. (C & C), a noncarrier, has filed a verified notice of exemption under 49 CFR 1150.31 to acquire the operating authority on eight rail lines (lines) owned by Centerpoint Properties, L.L.C. (Centerpoint), and leased to The Custom Companies, Inc. (previously Custom Cartage, Inc.). The lines total about 1.71 miles and they connect with track located in the Union Pacific Global Two Intermodal Yard, near Union Pacific milepost 3.0. The lines are located in an office, warehouse, and dock facility at 317 West Lake Street in Northlake, IL.¹

¹ Pursuant to an agreement with The Custom Company, Inc., C & C will acquire the right to operate the lines for the purpose of shuttling cars solely on Centerpoint's property.

The transaction is expected to be consummated on the effective date of the exemption. The earliest the exemption can be consummated is January 9, 2001, the effective date of the exemption (7 days after the exemption was filed).²

² On January 8, 2001, a petition to stay the effective date of the exemption was filed by Joseph C. Szabo, on behalf of United Transportation Union-Illinois Legislative Board. The petition for stay was denied in C & C Railroad, Inc.—Operation Exemption—Centerpoint Properties, L.L.C., STB Finance Docket No. 33990 (STB served Jan. 8, 2001).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33990, must be filed with the Surface Transportation Board, Office of the Secretary, Case Control Unit, 1925 K Street, NW., Washington, DC 20423-0001. In addition, a copy of each pleading must be served on Michael A. Abramson, Esq., 120 S. Riverside Plaza, Suite 1200, Chicago, IL 60606.

Board decisions and notices are available on our website at “WWW.STB.DOT.GOV.”

Decided: January 9, 2001.
Vernon A. Williams,
Secretary.

[FR Doc. 01-1331 Filed 1-16-01; 8:45 am]

BILLING CODE 4915-00-P